SMALL BUSINESS ADMINISTRATION

[Disaster Declaration #15300 and #15301; PUERTO RICO Disaster Number PR-00030]

Presidential Declaration Amendment of a Major Disaster for Public Assistance Only for the Commonwealth of Puerto Rico

AGENCY: U.S. Small Business Administration.

ACTION: Amendment 1.

SUMMARY: This is an amendment of the Presidential declaration of a major disaster for Public Assistance Only for the Commonwealth of Puerto Rico (FEMA-4336-DR), dated 09/10/2017.

Incident: Hurricane Irma.

Incident Period: 09/05/2017 and continuing.

DATES: Issued on 09/12/2017.

Physical Loan Application Deadline Date: 11/09/2017.

Economic Injury (EIDL) Loan Application Deadline Date: 06/11/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the Commonwealth of Puerto Rico, dated 09/10/2017, is hereby amended to include the following areas as adversely affected by the disaster.

Primary Municipalities: Adjuntas, Canovanas, Carolina, Guaynabo, Juncos, Loiza, Luquillo, Orocovis, Patillas, Utuado

All other information in the original declaration remains unchanged.

(Catalog of Federal Domestic Assistance Number 59008)

James E. Rivera,
Associate Administrator for Disaster Assistance.

[FR Doc. 2017-19960 Filed 9-19-17; 8:45 am]

BILLING CODE 8025-01-P